GENERAL SERVICES ADMINISTRATION

41 CFR Part 102-173

RIN 3090-AH41

Internet GOV Domain

AGENCY: Office of Governmentwide Policy, GSA.

ACTION: Proposed rule.

SUMMARY: The General Services Administration (GSA) is adding coverage on the Internet GOV Domain to the Federal Management Regulation (FMR). The purpose of this proposed rule is to provide a new policy for registration of domain names. This proposed rule solicits comments to be used in the formulation of a final rule. The FMR is written in plain language to provide updated regulatory material that is easy to read and understand.

DATES: Comment Date: Comments must be submitted on or before July 15, 2002, to be considered in the formulation of a final rule.

ADDRESSES: Written comments should be submitted to: Rodney Lantier, Regulatory Secretariat (MVP), Office of Governmentwide Policy, General Services Administration, 1800 F Street, NW, Washington, DC 20405.

Address e-mail comments to: RIN.3090-AH41@gsa.gov.

FOR FURTHER INFORMATION CONTACT: Marion Royal, Office of Governmentwide Policy (ME), 202-208-4643, marion.royal@gsa.gov.

SUPPLEMENTARY INFORMATION:

A. Background

The purpose of this proposed rule is to provide a new policy for the Internet GOV Domain that will be included in the Federal Management Regulation (FMR). The proposed rule is written in a plain language question and answer format. This style uses an active voice, shorter sentences, and pronouns. Unless otherwise indicated in the text, the pronoun “we” refers to the General Services Administration. A question and its answer combine to establish a rule. You must follow the language contained in both the question and its answer.

This proposed rule establishes Federal Management Regulation (FMR) part 102-173, Internet GOV Domain, and provides policy for registration of domain names. An earlier regulation was previously located in the Federal Property Management Regulation (FPMR) (41 CFR part 101-35, subpart 101-35.7, Network Address Registration) and expired on August 8, 2001.

Jurisdiction of the Internet GOV (dot-gov) domain was delegated to the General Services Administration (GSA) in 1997 by the Federal Networking Council with guidance in the form of Internet Engineering Task Force (IETF) Informational RFC 2146. Since then, the U.S. Government use of the Internet has evolved and is rapidly emerging as an electronic government without boundaries. Federal organizations are choosing dot-gov domain names to reflect the type of service being rendered and are collaborating to form portals that cross boundaries of agencies, departments, and other U.S. government entities.

In addition, there is increasing interest from non-Federal U.S. government entities, such as State and local governments, and Federally recognized Indian tribes, known in this rule as Native Sovereign Nations (NSNs), to provide service within the dot-gov domain. Many such governmental entities believe that their citizens are likely to associate their government at all levels with the dot-gov domain, and therefore, want the additional option of positioning their governmental portal to the public within this space. GSA has entered into an agreement with the Department of Interior's Bureau of Indian Affairs to facilitate the registration of NSNs in the dot-gov domain. GSA is now seeking public comment on the new policy to make the dot-gov domain available to State and local governments and Native Sovereign Nations.

Questions for the Proposed Rule

The public is invited to comment on any aspect of the proposed rule, including, but not limited to, the specific questions set forth below. When responding to specific questions, responses should cite the number(s) of the questions addressed and the “section” of the proposed rule to which your response corresponds. Please provide any references to support the responses submitted.

Question 1

This proposed rule sets forth the policy under which GSA will make the dot-gov domain available to non-Federal government entities. Should the dot-gov domain be expanded to include non-Federal government entities? What are the benefits to the American public of including all levels of government (Federal, State, local and NSNs) within one top-level domain? Would there be any disadvantages to such an approach?

Question 2

Section 102-173.35 of this proposed rule provides that second-level domain registrations in the dot-gov domain must be authorized by a high-ranking official within the Federal, State, and local governments. A second-level domain is that part of the Internet address before the “.com”, “.net”, “.gov”. The NSN registrations must be authorized by the Bureau of Indian Affairs. Section 102-173.40 provides guidance on the type of official within each level of government whose authorization GSA will recognize. Are the listed officials the appropriate officials within these governmental entities to provide the authorization for registration? If not, please provide your alternative suggestions for authorizing officials. What kind of information should authorizing officials be required to provide GSA to authenticate the requested second-level domain registration in dot-gov? Would it be helpful to provide additional guidance in the final rule with respect to the kind of information authorizing officials will be expected to provide GSA?

Question 3

GSA has, in the past, reserved the right to charge fees for registration services in or to recover the cost of operating the dot-gov domain. See GSA's final rule, “User Fees; Network Registration Services” (64 FR 32196, June 16, 1999). In section 102-173.45 of this proposed rule, GSA proposes to employ a system of collection that will include a one-time set fee for new registrations which will be in a range from $250 to $1000, depending on the level of assistance that may be provided by GSA and a recurring annual charge in the range of $100 to $500 for all dot-gov domains. The fees are based on anticipated costs for operating the registration service and are consistent with industry charges. Please provide any comments on whether a one-time set-up fee and an annual recurring charge is the appropriate mechanism for recovering GSA's costs and the proposed range of fees.

Question 4

Sections 102-173.50, 102-173.55, and 102-173.60 of this proposed rule provide mandatory naming conventions for States, Cities and Townships, and Counties or Parishes, respectively. These naming conventions are intended to ensure that the American public can readily identify the governmental entity associated with the second-level domain and to minimize potential conflicts between the various levels of government and between local governments with the same name. States are encouraged to make third-level domain names available to State departments and programs and local governments. In turn, local governments (cities, townships, and counties) are encouraged to register under a State's second-level domain to the extent such an option is available.

Is the requirement that States must include either the full State name or its postal code the appropriate naming convention for a State? Are there alternative naming conventions for States that would achieve the twin goals of easy public identification and reduced conflicts? Are there other naming conventions for Cities or Townships with the same name as each other or a County or Parish within their State than the ones proposed that would minimize conflicts?

Question 5

In section 102-173.65 of this proposed rule, GSA provides a mandatory naming convention for NSNs that would require the second-level domain be in the form of the registering NSN name followed by a suffix of “-NSN.gov”. Inclusion of “NSN” within the second-level domain is consistent with the current naming convention for NSNs with the .us domain and is readily recognized by the public. Is this an appropriate naming convention for NSNs or is there an alternative naming convention that would better meet the needs of the NSNs?

Question 6

In section 102-173.35 of this proposed rule, GSA makes it clear that in most cases it will not make determinations on the appropriateness of selected names, but will reserve the right not to assign names on a case-by-case basis. Is this sufficient to allow GSA to resolve any disputes that may arise between registrants? Do the proposed mandatory naming conventions eliminate the need for any additional dispute resolution mechanism?

If not, what kind of dispute resolution mechanism should be implemented?

Question 7

Sections 102-173.70 through 102-173.85 of this proposed rule provide information about the system by which registrations will be processed. Are there ways in which the process can be improved or streamlined? Is 60 days sufficient time for most governmental entities to obtain authorization from the appropriate officials?

Question 8

Section 102-173.30 authorizes registration of dot-gov domains to local governments. How should a local government be defined? Should it only include cities, towns, counties, and parishes, or should it extend to organizations such as water districts, etc.? What should GSA use as a reference for local governments?

B. Executive Order 12866

This is a significant rule and was subject to Office of Management and Budget review under Section 6(b) of Executive Order 12866, Regulatory Planning and Review, dated September 30, 1993.

C. Regulatory Flexibility Act

We certify that the proposed amendments will not have a significant economic impact on a substantial number of small entities, because the registration and renewal fees, and paperwork collection burden will be small.

D. Paperwork Reduction Act

The Paperwork Reduction Act does not apply because this proposed rule does not contain any information collection requirements that require the approval of the Office of Management and Budget (OMB) under 44 U.S.C. 3501, et seq.

E. Congressional Review Act

This proposed rule is not a major rule under 5 U.S.C. 804.

F. Unfunded Mandates Reform Act of 1995

This proposed rule does not significantly or uniquely affect small governments or tribal governments. It does not result in expenditures by State, local, or tribal governments, or to the private sector, of $100 million or more in any one year.

G. Executive Order 13132 on Federalism

This proposed rule does not have Federalism implications. There are no substantial direct effects on the States, on the relationship between the national government and the States, or on the distribution of power and responsibilities among the various levels of government.

List of Subjects in 41 CFR Part 102-173

Archives and records, Computer technology, Federal information processing resources activities, Government procurement, Property management, Records management, Telecommunications.

For the reasons set forth in the preamble, GSA proposes to amend 41 CFR chapter 102 as follows:

CHAPTER 102—[AMENDED]

Part 102-173 is added to subchapter F of chapter 102 to read as follows:

PART 102-173—INTERNET GOV DOMAIN

Subpart A—General
Sec.
102-173.5 What is Internet GOV Domain?
102-173.10 What is the authority or jurisdiction of the Internet GOV Domain?
102-173.15 What is the scope of this part?
102-173.20 To whom does this part apply?
102-173.25 What definitions apply to this part?
Subpart B—Registration
102-173.30 Who may register in the dot-gov domain?
102-173.35 Who authorizes domain names?
102-173.40 Who is my Chief Information Officer (CIO)?
102-173.45 Is there a registration charge for domain names?
102-173.50 What is the naming convention for States?
102-173.55 What is the naming convention for Cities and Townships?
102-173.60 What is the naming convention for Counties or Parishes?
102-173.65 What is the naming convention for Native Sovereign Nations?
102-173.70 Where do I register my dot-gov domain name?
102-173.75 How long does the process take?
102-173.80 How will I know if my request is approved?
102-173.85 How long will my application be held, waiting for my CIO approval?

Authority: 40 U.S.C. 486(c).

Subpart A—General

§ 102-173.5 What is Internet GOV Domain?

Internet GOV Domain refers to the Internet top-level domain “dot-gov” operated by the General Services Administration (GSA) for the registration of U.S. government-related domain names. In general, these names reflect the organization names in the Federal Government and non-Federal government entities in the United States. These names are now being used to promote government services and increase the ease of finding these services.

§ 102-173.10 What is the authority or jurisdiction of the Internet GOV Domain?

Jurisdiction of the Internet GOV (dot-gov) domain was delegated to GSA in 1997 by the Federal Networking Council with guidance in the form of Internet Engineering Task Force (IETF) Informational RFC 2146, which can be obtained on the Internet at: http://www.ietf.org/rfc/rfc2146.txt?number=2146.

§ 102-173.15 What is the scope of this part?

This part addresses the registration of second-level domain names used in the Internet GOV Domain. This registration process assures that the assigned domain names are unique worldwide.

§ 102-173.20 To whom does this part apply?

This part applies to Federal, State, and local governments, and Native Sovereign Nations. You do not need to register domain names with us if you will be using some other top-level domain registration, such as dot-us, dot-org, or dot-net.

§ 102-173.25 What definitions apply to this part?

The following definitions apply to this part:

Domain is a region of jurisdiction on the Internet for naming assignment. GSA is responsible for registrations in the dot-gov domain.

Domain name is a name assigned to an Internet server. This is the name that you request from GSA. Typically, you would apply this name to a domain name server.

Domain name server is the computer that provides pointers from the domain name to the actual computers.

Dot-gov refers to domain names ending with a “.gov” suffix. The Internet GOV domain is another way of expressing the collection of dot-gov domain names.

Native Sovereign Nations (NSN) are federally recognized tribes.

Subpart B—Registration

§ 102-173.30 Who may register in the dot-gov domain?

Registration in the dot-gov domain is available to official governmental organizations in the United States including Federal, State, and local governments, and Native Sovereign Nations.

§ 102-173.35 Who authorizes domain names?

Domain names must be authorized by the Chief Information Officer (CIO) of the requesting or sponsoring governmental organization. For Federal departments and agencies, GSA will accept authorization from the CIO of the department or agency. For independent Federal government agencies, boards, and commissions, GSA will accept authorization from the highest-ranking Information Technology Official. For State and local governments, GSA will accept authorization from appropriate State or local officials, see § 102-173.40. For Native Sovereign Nations, GSA will only accept authorization from the Bureau of Indian Affairs, Department of the Interior. In most cases, GSA will not make determinations on the appropriateness of the selected domain names, but reserves the right to not assign domain names on a case-by-case basis. Non-Federal government domain names must follow the naming conventions described in §§ 102-173.50 through 102-173.65.

§ 102-173.40 Who is my Chief Information Officer (CIO)?

Your Chief Information Officer (CIO) may vary according to the branch of government. For the Federal Government, GSA recognizes the cabinet level CIOs listed at http://www.cio.gov. For States, GSA will accept authorization from the Office of the Governor or highest-ranking Information Technology (IT) official. Other officials include the Mayor (for city or town), County Commissioner (for counties) or highest ranking IT official. Native Sovereign Nations (NSN) must receive authorization from the Bureau of Indian Affairs. CIOs may delegate this authority by notification to GSA.

§ 102-173.45 Is there a registration charge for domain names?

GSA reserves the right to charge for domain names in order to recover cost of operations. For current registration charges, please visit http://nic.gov. GSA proposes to employ a system of collection that includes a one-time setup fee for new registrations, which will be in the range of $250 to $1000, depending on the level of assistance that may be provided by GSA, and a recurring annual charge in the range of $100 to $500 for all dot-gov domains. The fees are based on anticipated costs for operating the registration service and are consistent with industry charges.

§ 102-173.50 What is the naming convention for States?

(a) To register any second-level domain within dot-gov, State government entities must register the full State name or clearly indicate the State postal code within the name. Examples of acceptable names include: virginia.gov, tennesseeanytime.gov, wa.gov, nmparks.gov, mysc.gov, emaryland.gov, and ne-taxes.gov. However:

(1) Use of the State postal code should not be embedded within a single word in a way that obscures the postal code. For example, Indiana (IN) should not register for win.gov, or independence.gov; and

(2) Where potential conflicts arise between postal codes and existing domain names (“va” for the Commonwealth of Virginia and the United States Department of Veterans Affairs), States are encouraged to register URL's that contain the full State name.

(b) There is no limit to the number of domain names for which a State may register.

(c) States are encouraged to make second-level domains available for third-level registration by local governments and State Government departments and programs. For example, the State of North Carolina could register NC.GOV as a second-level domain and develop a system of registration for their local governments. The State would be free to develop policy on how the local government should be registered under NC.GOV. One possibility might be to spell out the city, thus Raleigh.NC.gov could be a resulting domain name.

§ 102-173.55 What is the naming convention for Cities and Townships?

(a) To register any second-level domain within dot-gov, City (town) governments must register the domain name with the city (town) name or abbreviation, and clear reference to the State in which the city (town) is located. However:

(1) Use of the State postal code should not be embedded within a single word in a way that obscures the postal code; and

(2) Inclusion of the word “city” or “town” within the domain name is optional and may be used at the discretion of the local government.

(b) The preferred format for city governments is to denote the State postal code after the city name, optionally separated by a dash. Examples of preferred domain names include:

(1) chicago-il.gov;

(2) cityofcharleston-sc.gov;

(3) charleston-wv.gov; and

(4) townofdumfries-va.gov.

(c) If third-level domain naming is available from the State government, cities and towns are encouraged to register for a domain name under a State's registered second-level (e.g., chicago.il.gov) in accordance with the policies established by the State government.

§ 102-173.60 What is the naming convention for Counties or Parishes?

(a) To register any second-level domain within dot-gov, County or Parish governments must register the County's or Parish's name or abbreviation, the word “county” or “parish” (because many counties have the same name as cities within the same State), and a reference to the State in which the county or parish is located. However, the use of the State postal code should not be embedded within a single word in a way that obscures the postal code.

(b) The preferred format for county or parish governments is to denote the State postal code after the county or parish, optionally separated by a dash. Examples of preferred domain names include:

(1) richmondcounty-ga.gov;

(2) pwc-county-va.gov; and

(3) countyofdorchestor-sc.gov.

(c) If third-level domain naming is available from the State government, counties or parishes are encouraged to register for a domain name under a State's registered second-level (e.g., richmondcounty.ga.gov).

§ 102-173.65 What is the naming convention for Native Sovereign Nations?

To register any second-level domain in dot-gov, Native Sovereign Nations may register any second-level domain name provided that it contains the registering NSN name followed by a suffix of “-NSN.gov” (case insensitive).

§ 102-173.70 Where do I register my dot-gov domain name?

Registration is an online process at http://nic.gov. At the Network Information Site (NIC), you will find the instructions and online registration forms for registering your domain name. To register your domain name you will need to provide information such as your desired domain name, sponsoring organization, points of contact, and at least two name server addresses.

§ 102-173.75 How long does the process take?

The process can be completed within 48 hours if all information received is complete and accurate. Most requests take up to thirty (30) days because the registrar is waiting for CIO approval.

§ 102-173.80 How will I know if my request is approved?

A registration confirmation notice is sent within one business day after you register your domain name, informing you that your registration information was received. If all of your information is accurate and complete, a second notice will be sent to you within one business day, informing you that all of your information is in order. If you are ineligible, or if the information provided is incorrect or incomplete, your registration will be rejected and a notice will be sent to you stating the reason for rejection. Registration requests will be activated within two business days after receiving valid authorization from the appropriate CIO. Once your domain name has been activated, a notice will be sent to you.

§ 102-173.85 How long will my application be held, waiting for my CIO approval?

Registrations will be held in reserve status for sixty (60) days pending CIO authorization from your sponsoring organization.

Dated: May 9, 2002.
G. Martin Wagner,
Associate Administrator, Office of Governmentwide Policy.

[FR Doc. 02-12127 Filed 5-15-02; 8:45 am]

BILLING CODE 6820-34-P